DEPARTMENT OF AGRICULTURE

Agricultural Marketing Service

7 CFR Part 60

[Doc. No. LS-04-04]

RIN 0581-AC26

Mandatory Country of Origin Labeling of Beef, Lamb, Pork, Fish, Perishable Agricultural Commodities, and Peanuts

AGENCY: Agricultural Marketing Service, USDA.

ACTION: Proposed rule; extension of comment period; correction.

SUMMARY: On October 30, 2003, the Agricultural Marketing Service (AMS) published a proposed rule (68 FR 61944) for the mandatory country of origin labeling program as mandated by the Farm Security and Rural Investment Act of 2002 (Farm Bill) and the 2002 Supplemental Appropriations Act (Appropriations Act), which amended the Agricultural Marketing Act of 1946 (Act) to require retailers to notify their customers of the country of origin of covered commodities beginning September 30, 2004. AMS is extending the comment period to February 27, 2004, at the request of industry trade associations to provide interested parties with additional time to file comments. In addition, AMS is making corrections to the “Analysis of Benefits and Costs” section of the preliminary cost-benefit assessment of the proposed rule in order to correct minor transcription errors. The estimated recordkeeping and implementation costs as well as the estimated overall impact to the economy as a result of the proposed rule remain unchanged.

DATES: Comments must be submitted on or before February 27, 2004, to be assured of consideration.

ADDRESSES: Send written comments to: Country of Origin Labeling Program, Room 2092-S, Agricultural Marketing Service (AMS), USDA, STOP 0249, 1400 Independence Avenue, SW., Washington, DC 20250-0249, or by facsimile to 202-720-3499, or by e-mail to cool@usda.gov. Comments received will be posted to the AMS Web site at: http://www.ams.usda.gov/cool/. Comments sent to the above location that specifically pertain to the information collection and recordkeeping requirements should also be sent to the Desk Officer for Agriculture, Office of Information and Regulatory Affairs, Office of Management and Budget (OMB), New Executive Office Building, 725 17th Street, NW., Room 725, Washington, DC 20503.

FOR FURTHER INFORMATION CONTACT: Robert Keeney, Deputy Administrator, Fruit and Vegetable Programs, AMS, USDA, by telephone on 202-720-4722, or via e-mail at: robert.keeney@usda.gov; or William Sessions, Associate Deputy Administrator, Livestock and Seed Program, AMS, USDA, by telephone on (202) 720-5705, or via e-mail at: william.sessions@usda.gov.

SUPPLEMENTARY INFORMATION: The Farm Bill and the Appropriations Act amended the Act to require retailers to notify their customers of the country of origin of covered commodities beginning September 30, 2004. The law also requires the Department of Agriculture to issue regulations to implement a mandatory COOL program not later than September 30, 2004.

On October 30, 2003, AMS published a proposed rule in the Federal Register (68 FR 61944) for the mandatory country of origin labeling program. The comment period was originally scheduled to end on December 29, 2003. However, industry trade organizations have requested additional time to study the proposed regulation to develop more meaningful comments. Because the proposed rule will significantly impact a large number of entities, AMS has determined that there is sufficient justification for extending the comment period 60 days until February 27, 2004.

In accordance with Executive Order 12866, as part of the rulemaking process AMS examined the economic impact of the proposed rule for the mandatory COOL program, which was published in the October 30, 2003, Federal Register (68 FR 61944). Due to transcription errors, several numerical values were reported incorrectly in the section of the economic impact assessment that addressed effects of the proposed rule on the economy. The transcription errors occurred on pages 61970 and 61971 of the October 30, 2003, Federal Register notice, Docket Number LS-03-04. The last sentence beginning at the bottom of the first column of page 61970 was published as follows:

“The results of our analysis indicate that U.S. production of all the covered commodities combined will decline from 0.15 percent to 0.92 percent and that the overall price level for these commodities (a weighted average index of the prices received by suppliers for their commodities) will increase by 0.06 percent to 0.64 percent.”

The originally published sentence should be replaced with the following sentence, which replaces three incorrectly reported numerical values:

“The results of our analysis indicate that U.S. production of all the covered commodities combined will decline from 0.12 percent to 0.30 percent and that the overall price level for these commodities (a weighted average index of the prices received by suppliers for their commodities) will increase by 0.06 percent to 0.25 percent.”

On page 61971, four numbers were reported incorrectly in Table 9—Estimated Impact of Proposed Rule on U.S. Production, Prices, and Trade of Impacted Sectors. As initially published, percentage changes in the volume of exports of hogs, beef and lamb, pork, and fish under the Low Incremental Cost scenario were incorrectly reported. Initially published and corrected values for the affected cells of Table 9 are as follows:

Corrected numerical values for Table 9.—Estimated impact of proposed rule on U.S. production, prices and trade of impacted sectors

| Exports percent change from the base year: As initially published | Exports percent change from the base year: Replace with
Low Incremental Cost:
Hogs | −0.05 | −0.09
Beef and Lamb | −0.05 | −0.13
Pork | −0.09 | −0.16
Fish | −0.12 | −0.27

It should be noted that Table 10—Estimated Changes in U.S. Production, Prices, and Trade for Affected Commodities, which translates the percentage changes shown in Table 9 into unit values, is correct as initially published on page 61972.

The transcription errors relate to incorrectly reported outcomes of the analysis and in no way impact the analysis itself. The estimated costs to the U.S. economy after a decade of adjustment remain unchanged from the range of $138 million to $596 million in reduced consumers' purchasing power. Moreover, the estimated recordkeeping and implementation costs remain unchanged.

Authority: 7 U.S.C. 1621 et seq.

Dated: December 17, 2003.
A.J. Yates,
Administrator, Agricultural Marketing Service.

[FR Doc. 03-31492 Filed 12-17-03; 4:03 pm]

BILLING CODE 3410-02-P